DEPARTMENT OF COMMERCE

International Trade Administration

Initiation of Antidumping and Countervailing Duty Administrative Reviews and Request for Revocation in Part

AGENCY: Enforcement and Compliance, formerly Import Administration, International Trade Administration, Department of Commerce.

SUMMARY: The Department of Commerce (“the Department”) has received requests to conduct administrative reviews of various antidumping and countervailing duty orders and findings with September anniversary dates. In accordance with the Department's regulations, we are initiating those administrative reviews.

DATES: Effective Date: November 8, 2013.

FOR FURTHER INFORMATION CONTACT: Brenda E. Waters, Office of AD/CVD Operations, Customs Liaison Unit, Enforcement and Compliance, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with September anniversary dates.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303. See Antidumping and Countervailing Duty Proceedings: Electronic Filing Procedures; Administrative Protective Order Procedures, 76 FR 39263 (July 6, 2011). Such submissions are subject to verification in accordance with section 782(i) of the Tariff Act of 1930, as amended (“Act”). Further, in accordance with 19 CFR 351.303(f)(1)(i), a copy must be served on every party on the Department's service list.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value Questionnaire for purposes of respondent selection, in general each company must report volume and value data separately for itself. Parties should not include data for any other party, even if they believe they should be treated as a single entity with that other party. If a company was collapsed with another company or companies in the most recently completed segment of this proceeding where the Department considered collapsing that entity, complete quantity and value data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://www.trade.gov/enforcement on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Status Application will be available on the Department's Web site at http://trade.gov/enforcement/ on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently completed segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than September 30, 2014.

| Period to be reviewed
Antidumping Duty Proceedings
Germany: Certain Small Diameter Carbon and Alloy Seamless Standard,³ Line and Pressure Pipe, A-428-820 | 8/1/12-7/31/13
Benteler Steel/Tube GmbH
India: Certain Lined Paper Products, A-533-843 | 9/1/12-8/31/13
Ampoules & Vials Manufacturing Co. Ltd
A.R. Printing & Packaging (India) Pvt. Ltd
Pioneer Stationery Pvt. Ltd
Premier Exports
Marisa International
Navneet Publications (India) Ltd
Riddhi Enterprises
SGM Paper Products
Super Impex
Mexico: Certain Magnesia Carbon Bricks, A-201-837 | 9/1/12-8/31/13
RHI Glas GmbH
RHI-Refmex S.A. de C.V
Trafinsa S.A. de C.V
Vesuvius Mexico S.A. de C.V
Mexico: Light-Walled Rectangular Pipe and Tube,⁴ A-201-83 | 8/1/12-7/31/13
Regiomontana de Perfiles y Tubos S.A. de C.V
Socialist Republic of Vietnam: Certain Frozen Fish Fillets,5 6 A-552-801 | 8/1/12-7/31/13
C.P. Vietnam Corporation (“CP Vietnam”)
TG Fishery Holdings Corporation (“TG”)
Taiwan: Narrow Woven Ribbons with Woven Selvedge, A-583-844 | 9/1/12-8/31/13
Apex Trimmings Inc. d/b/a Papillon Ribbon & Bow (Canada)
Cheng Hsing Ribbon Factory
Hen Hao Trading Co. Ltd. a.k.a. Taiwan Tulip Ribbons and Braids Co. Ltd
Hubscher Ribbon Corp., Ltd. d/b/a Hubschercorp
King Young Enterprises Co., Ltd
Multicolor
Papillon Ribbon & Bow (H.K.) Ltd
Papillon Ribbon & Bow (Shanghai) Ltd
Roung Shu Industry Corporation
Shienq Huong Enterprise Co., Ltd./Hsien Chan Enterprise Co., Ltd./Novelty Handicrafts Co., Ltd.⁷
Yama Ribbons and Bows Co., Ltd
Yangzhou Bestpak Gifts & Crafts Co., Ltd
Yu Shin Development Co. Ltd
The People's Republic of China: Certain Kitchen Appliance Shelving and Racks,⁸ A-570-941 | 9/1/12-8/31/13
Jiangsu Weixi Group Co
The People's Republic of China: Certain Magnesia Carbon Bricks,⁹ A-570-954 | 9/1/12-8/31/13
ANH (Xinyi) Refractories Co. Ltd
Anyang Rongzhu Silicon Industry Co., Ltd
Barsan Global Lojistik Ve Gum. Mus
Bayuquan Refractories Co., Ltd
Beijing Tianxing Ceramic Fiber Composite Materials Corp
Benxi Iron & Steel (Group) International Economic & Trading Co
Changxing Magnesium Furnace Charge Co., Ltd
Changxing Wangfa Architectural & Metallurgical Materials Co., Ltd
Changzing Zhicheng Refractory Material Factory
China Metallurgical Raw Material Beijing Company
China Quantai Metallurgical (Beijing) Engineering & Science Co., Ltd
Chosun Refractories
Cimm Group of China
CNBM International Corporation
Dalian Cerax Co., Ltd
Dalian Dalmond Trading Co., Ltd
Dalian F.T.Z. Huaxin International
Dalian F.T.Z. Maylong Resources Co., Ltd
Dalian Huayu Refractories International Co., Ltd
Dalian LST Metallurgy Co., Ltd
Dalian Masoo International Trading
Dalian Mayerton Refractories Ltd
Dalian Morgan Refractories Ltd
Dashiqiao Bozhong Mineral Products Co., Ltd
Dashiqiao City Magnesite
Dashiqiao City Guangcheng Refractory Co., Ltd
Dashiqiao Jia Sheng Mining Co., Ltd
Dashiqiao Jinlong Refractories Co., Ltd
Dashiqiao RongXing Refractory Material Co., Ltd
Dashiqiao Sanqiang Refractory Material Co., Ltd
Dashiqiao Yutong Packing Factory
Dashiqiao Zhongjian Magnesia
Dengfeng Desheng Refractory Co., Ltd
DFL Minmet Refractories Corp
Duferco SA
Duferco BarInvest SA Beijing Office
Duferco Ironet Shanghai Representative Office
Eastern Industries & Trading Co., Ltd
Far Horizon Trading Limited
Fedmet Resources Corporation
Fengchi Imp. and Exp. Co., Ltd. of Haicheng City
Fengchi Mining Co., Ltd of Haicheng City
Fengchi Refractories Co., of Haicheng City
Fengchi Refractories Corp
Ferro Alliages & Mineraux Inc
Firma
Haicheng City Qunli Mining Co., Ltd
Haicheng City Xiyang Import & Export Corporation
Haicheng Donghe Taidi Refractory Co., Ltd
Haicheng Ruitong Mining Co., Ltd
Haiyuan Talc Powder Manufacture Factory
Henan Boma Co. Ltd
Henan Kingway Chemicals Co., Ltd
Henan Tagore Refractories Co., Ltd
Henan Xinmi Changzxing Refractories, Co., Ltd
Hebei Qinghe Refractory Group Co. Ltd
Huailin Refractories (Dashiqiao) Pte. Ltd
Hualude Hardware Products Co. Ltd
Indian Technomac Co., Ltd
Jfe Refractories Corporation
Jiangsu Sujia Group New Materials Co., Ltd
Jiangsu Sujia Joint-Stock Co., Ltd
Jinan Forever Imp. & Emp. Trading Co., Ltd
Jinan Linquan Imp. & Emp. Co. Ltd
Jinan Ludong Refractory Co., Ltd
Kosmokraft Refractory Limited
Kuehne & Nagel Ltd. Dalian Branch Office
Kumas Sanayi Urunleri Ve Insaat Paz
Lechang City Guangdong Province SongXin Refractories Co., Ltd
Liaoning Fucheng Refractories Group Co., Ltd
Liaoning Fucheng Special Refractory Co., Ltd
Liaoning Jiayi Metals & Minerals Ltd
Liaoning Jinding Magnesite Group
Liaoning Mayerton Refractories Co., Ltd
Liaoning Mineral & Metallurgy Group Co., Ltd
Liaoning Qunyi Group Refractories Co., Ltd
Liaoning Qunyi Trade Co., Ltd
Liaoning RHI Jinding Magnesis Co., Ltd
Liaoning Zhongxing Mining Industry Group Co., Ltd
LiShuang Refractory Industrial Co., Ltd
Lithomelt Co., Ltd
Lua Viet Bestref Joint Venture Co
Luheng Refractory Co., Ltd
Luoyang Refractory Group Co., Ltd
Mayerton Refractories
Minsource International Ltd
Minteq International Inc
National Minerals Co., Ltd
Navis Zufall Ueberseespeditions
North Refractories Co., Ltd
Orestar Metals & Minerals Co., Ltd
Oreworld Trade (Tangshan) Co., Ltd
Puyang Refractories Co., Ltd
Qingdao Almatis Co., Ltd. (HQ)
Qingdao Almatis Co., Ltd. (Manufacturing)
Qingdao Almatis Trading Co., Ltd. (Sales Office)
Qingdao Blueshell Import & Emport Corp
Qingdao Fujing Group Co., Ltd
Qingdao Huierde International Trade Co., Ltd
Refratechnik Cement GmbH
Refratechnik Steel GmbH
RHI AG
RHI GLAS GmbH
RHI Refractories Asia Pacific Pte. Ltd
RHI Refractories (Dalian) Co., Ltd
RHI Refractories Liaoning Co., Ltd
RHI Trading Shanghai Branch
RHI Trading (Dalian) Co., Ltd
Rongyuan Magnesite Co., Ltd. of Dashiqiao City
Shandong Cambridge International Trade Inc
Shandong Lunai Kiln Refractories Co., Ltd
Shandong Refractories Corp
Shanghai Pudong Imp. & Exp. Co. Ltd
Shanghai Vista Packaging Co., ltd
Shanxi Dajin International (Group) Co., Ltd
Shanxi Xinrong International Trade Co. Ltd
Shenyang Shenghui Refractory Imp
Shenyang Yi Xin Sheng Lai Refractory Materials Co., Ltd
Shinagawa Refractories Co., Ltd
Shinagawa Rongyuan Refractories Co., Ltd
Sinosteel Corporation
SMMC Group Co., Ltd
Store System Inc. O B Dongning Shunf
Syndicate Exp. Pvt., Ltd
Tangshan Success Import & Export Trading Co., Ltd
Tianjin New Century Refractories, Ltd
Tianjin New World Import & Export Trading Co., Ltd
Tianjin Weiyuan Refractory Co., Ltd
The Economic Trading Group of Haicheng Huoying Corporation Ltd
Vereeniging Refractories (Pty)
Vesuvius Advanced Ceramics (Suzhou) Co. Ltd
Wonjin Refractories Co., Ltd
Wuxi Tian Liang Foreign Trade Co., Ltd
Xiyuan Xingquan Forsterite Co., Ltd
Yanshi City Guangming High-Tech Refractories Products Co., Ltd
YHS Minerals Co., Ltd
Yingkou Bayuquan Refractories Co., Ltd
Yingkou Bl Mining Co., Ltd
Yingkou Dalmond Refractories Co., Ltd
Yingkou Guangyang Refractories Co., Ltd
Yingkou Guangyang Refractories Co., Ltd. (YGR)
Yingkou Heping Samwha Minerals Co., Ltd
Yingkou Jiahe Refractories Co., Ltd
Yingkou Jinlong Refractories Group
Yingkou Kyushu Refractories Co., Ltd
Yingkou New Century Refractories Ltd
Yingkou Qinghua Group Imp. & Emp. Co., Ltd
Yingkou Qinghua Refractories Co., Ltd
Yingkou Sanhua Refractory Materials Co., Ltd
Yingkou Tianrun Refractory Co.,Ltd
Yingkou Wonjin Refractory Material Co., Ltd
Yingkou Yongji Mag Refractory, Ltd
Yixing Runlong Trade Co., Ltd
Yixing Xinwei Leeshing Refractory Material Co., Ltd
Yixing Zhenqiu Charging Ltd
Zhejiang Changxing Guangming Special Refractory Material Foundry, Co., Ltd
Zhejiang Deqing Jinlei Refractory Co., Ltd
Zhejiang Huzhou Fuzilin Refractory Metals Group Co., Ltd
Zhengzhou Annec Industrial Co., Ltd
Zhengzhou Huachen Refractory Co., Ltd
Zhengzhou Huawei Refractories Co., Ltd
Zibo Lianzhu Refractory Materials Co., Ltd
The People's Republic of China: Certain New Pneumatic Off-the-Road Tires,¹⁰ A-570-912 | 9/1/12-8/31/13
Double Coin Group Rugao Tyre Co., Ltd
Double Coin Group Shanghai Donghai Tyre Co., Ltd
Double Coin Holding Ltd
Guizhou Advance Rubber Co., Ltd
Guizhou Tyre Co., Ltd
Guizhou Tyre Import and Export Co., Ltd
Hangzhou Zhongce Rubber Co., Ltd
Trelleborg Wheel System (Xingtai) China, Co. Ltd
Weihai Zhongwei Rubber Co., Ltd
The People's Republic of China: Freshwater Crawfish Tail Meat,¹¹ A-570-848 | 9/1/12-8/31/13
China Kingdom (Beijing) Import & Export Co., Ltd
Deyan Aquatic Products and Food Co., Ltd
Hubei Zhenghe Food Co., Ltd
Nanjing Gemsen International Co., Ltd
Shanghai Ocean Flavor International Trading Co., Ltd
Xiping Opeck Food Co., Ltd
Xuzhou Jinjiang Foodstuffs Co., Ltd
Yancheng Hi-King Agriculture Developing Co., Ltd
The People's Republic of China: Narrow Woven Ribbons with Woven Selvedge,¹² A-570-952 | 9/1/12-8/31/13
Apex Trimmings Inc. d/b/a Papillon Ribbon & Bow (Canada)
Cheng Hsing Ribbon Factory
Hen Hao Trading Co., Ltd. a.ka. Taiwan Tulip Ribbons and Braid Co. Ltd
Hsien Chan Enterprise Co., Ltd
Hubscher Ribbon Corp., Ltd. d/b/a Hubschercorp
King Young Enterprises Co., Ltd
Multicolor
Novelty Handicrafts Co., Ltd
Papillon Ribbon & Bow (H.K.) Ltd
Papillon Ribbon & Bow (Shanghai) Ltd
Roung Shu Industry Corporation a.k.a Cheng Hsing Ribbon Factory
Shienq Huong Enterprise Co., Ltd
Yama Ribbons and Bows Co., Ltd
Yangzhou Bestpak Gifts & Crafts Co., Ltd
Yu Shin Development Co. Ltd
Countervailing Duty Proceedings
India: Certain Lined Paper Products, C-533-844 | 1/1/12-12/31/12
A.R. Printing & Packaging (India) Pvt. Ltd
Navneet Publications (India) Ltd
The People's Republic of China: Certain Kitchen Appliance Shelving and Racks, C-570-942 | 1/1/12-12/31/12
Jiangsu Weixi Group Co
The People's Republic of China: Certain Magnesia Carbon Bricks, C-570-955 | 1/1/12-12/31/12
ANH (Xinyi) Refractories Co. Ltd
Anyang Rongzhu Silicon Industry Co., Ltd
Bayuquan Refractories Co., Ltd
Beijing Tianxing Ceramic Fiber Composite Materials Corp
Changxing Magnesium Furnace Charge Co., Ltd
Changxing Wangfa Architectural & Metallurgical Materials Co., Ltd
Changzing Zhicheng Refractory Material Factory
China Metallurgical Raw Material Beijing Company
China Quantai Metallurgical (Beijing) Engineering & Science Co., Ltd
Cimm Group of China
CNBM International Corporation
Dalian Dalmond Trading Co., Ltd
Dalian F.T.Z. Huaxin International
Dalian F.T.Z. Maylong Resources Co., Ltd
Dalian Huayu Refractories International Co., Ltd
Dalian LST Metallurgy Co., Ltd
Dalian Masoo International Trading
Dalian Mayerton Refractories Ltd
Dalian Morgan Refractories Ltd
Dashiqiao Bozhong Mineral Products Co., Ltd
Dashiqiao City Guangcheng Refractory Co., Ltd
Dashiqiao Jia Sheng Mining Co., Ltd
Dashiqiao RongXing Refractory Material Co., Ltd
Dashiqiao Sanqiang Refractory Material Co., Ltd
Dashiqiao Yutong Packing Factory
Dengfeng Desheng Refractory Co., Ltd
DFL Minmet Refractories Corp
Duferco BarInvest SA Beijing Office
Duferco Ironet Shanghai Representative Office
Eastern Industries & Trading Co., Ltd
Fengchi Imp. and Exp. Co., Ltd. of Haicheng City
Fengchi Mining Co., Ltd of Haicheng City
Fengchi Refractories Co., of Haicheng City
Fengchi Refractories Corp
Haicheng City Qunli Mining Co., Ltd
Haicheng City Xiyang Import & Export Corporation
Haicheng Donghe Taidi Refractory Co., Ltd
Haicheng Ruitong Mining Co., Ltd
Haiyuan Talc Powder Manufacture Factory
Henan Boma Co. Ltd
Henan Kingway Chemicals Co., Ltd
Henan Tagore Refractories Co., Ltd
Henan Xinmi Changzxing Refractories, Co., Ltd
Hebei Qinghe Refractory Group Co. Ltd
Huailin Refractories (Dashiqiao) Pte. Ltd
Hualude Hardware Products Co. Ltd
Jiangsu Sujia Group New Materials Co., Ltd
Jiangsu Sujia Joint-Stock Co., Ltd
Jinan Forever Imp. & Emp. Trading Co., Ltd
Jinan Linquan Imp. & Emp. Co. Ltd
Jinan Ludong Refractory Co., Ltd
Kosmokraft Refractory Limited
Kuehne & Nagel Ltd. Dalian Branch Office
Lechang City Guangdong Province SongXin Refractories Co., Ltd
Liaoning Fucheng Refractories Group Co., Ltd
Liaoning Fucheng Special Refractory Co., Ltd
Liaoning Jiayi Metals & Minerals Ltd
Liaoning Jinding Magnesite Group
Liaoning Mayerton Refractories Co., Ltd
Liaoning Mineral & Metallurgy Group Co., Ltd
Liaoning Qunyi Group Refractories Co., Ltd
Liaoning Qunyi Trade Co., Ltd
Liaoning RHI Jinding Magnesis Co., Ltd
LiShuang Refractory Industrial Co., Ltd
Lithomelt Co., Ltd
Luheng Refractory Co., Ltd
Luoyang Refractory Group Co., Ltd
Mayerton Refractories
Minsource International Ltd
Minteq International Inc
National Minerals Co., Ltd
North Refractories Co., Ltd
Orestar Metals & Minerals Co., Ltd
Oreworld Trade (Tangshan) Co., Ltd
Puyang Refractories Co., Ltd
Qingdao Almatis Co., Ltd. (HQ)
Qingdao Almatis Co., Ltd. (Manufacturing)
Qingdao Almatis Trading Co., Ltd. (Sales Office)
Qingdao Blueshell Import & Emport Corp
Qingdao Fujing Group Co., Ltd
Qingdao Huierde International Trade Co., Ltd
RHI Refractories (Dalian) Co., Ltd
RHI Refractories Liaoning Co., Ltd
RHI Trading Shanghai Branch
RHI Trading (Dalian) Co., Ltd
Rongyuan Magnesite Co., Ltd. of Dashiqiao City
Shandong Cambridge International Trade Inc
Shandong Lunai Kiln Refractories Co., Ltd
Shandong Refractories Corp
Shanxi Dajin International (Group) Co., Ltd
Shanxi Xinrong International Trade Co. Ltd
Shenyang Yi Xin Sheng Lai Refractory Materials Co., Ltd
Shinagawa Rongyuan Refractories Co., Ltd
Sinosteel Corporation
SMMC Group Co., Ltd
Tangshan Success Import & Export Trading Co., Ltd
Tianjin New Century Refractories, Ltd
Tianjin New World Import & Export Trading Co., Ltd
Tianjin Weiyuan Refractory Co., Ltd
Vesuvius Advanced Ceramics (Suzhou) Co. Ltd
Wonjin Refractories Co., Ltd
Xiyuan Xingquan Forsterite Co., Ltd
Yanshi City Guangming High-Tech Refractories Products Co., Ltd
YHS Minerals Co., Ltd
Yingkou Bayuquan Refractories Co., Ltd
Yingkou Dalmond Refractories Co., Ltd
Yingkou Guangyang Refractories Co., Ltd
Yingkou Guangyang Refractories Co., Ltd. (YGR)
Yingkou Heping Samwha Minerals Co., Ltd
Yingkou Jiahe Refractories Co., Ltd
Yingkou Jinlong Refractories Group
Yingkou Kyushu Refractories Co., Ltd
Yingkou New Century Refractories Ltd
Yingkou Qinghua Group Imp. & Emp. Co., Ltd
Yingkou Qinghua Refractories Co., Ltd
Yingkou Sanhua Refractory Materials Co., Ltd
Yingkou Tianrun Refractory Co., Ltd
Yingkou Wonjin Refractory Material Co., Ltd
Yingkou Yongji Mag Refractory, Ltd
Yixing Runlong Trade Co., Ltd
Yixing Xinwei Leeshing Refractory Material Co., Ltd
Yixing Zhenqiu Charging Ltd
Zhejiang Changxing Guangming Special Refractory Material Foundry, Co., Ltd
Zhejiang Deqing Jinlei Refractory Co., Ltd
Zhejiang Huzhou Fuzilin Refractory Metals Group Co., Ltd
Zhengzhou Annec Industrial Co., Ltd
Zhengzhou Huachen Refractory Co., Ltd
Zhengzhou Huawei Refractories Co., Ltd
Zibo Lianzhu Refractory Materials Co., Ltd
The People's Republic of China: Certain New Pneumatic Off-the-Road Tires, C-570-913 | 1/1/12-12/31/12
Guizhou Tyre Co, Ltd
The People's Republic of China: Narrow Woven Ribbons with Woven Selvedge, C-570-953 | 1/1/12-12/31/12
Yangzhou Bestpak Gifts & Crafts Co., Ltd

Suspension Agreements

None.

³ The company listed was inadvertently omitted from the initiation notice that published on October 2, 2013 (78 FR 60834).

⁴ The companies listed for this review in the initiation notice that published on October 2, 2013 (78 FR 60834), inadvertently included Maquilacero S.A. de C.V.; the review should have been initiated on Regiomontana de Perfiles y Tubos S.A. de C.V. alone.

⁵ If one of the above-named companies does not qualify for a separate rate, all other exporters of Certain Frozen Fish Fillets the Socialist Republic of Vietnam who have not qualified for a separate rate are deemed to be covered by this review as part of the single Vietnam entity of which the named exporters are a part.

⁶ The companies listed were inadvertently omitted from the initiation notice that published on October 2, 2013 (78 FR 60834).

⁷ The Department received a request for an administrative review of the antidumping duty order on narrow woven ribbons (“NWR”) from Taiwan with respect to Shienq Huong Enterprise Co., Ltd., Hsien Chan Enterprise Co., Ltd. and Novelty Handicrafts Co., Ltd. (collectively, “the Shienq Huong Group”). NWR produced and exported in any of 26 producer/exporter combinations involving the Shienq Huong Group is excluded from the order. See Narrow Woven Ribbons With Woven Selvedge From Taiwan and the People's Republic of China: Antidumping Duty Orders, 75 FR 53632, 53633 (Sept. 1, 2010). This administrative review covers NWR produced or exported by the Shienq Huong Group which is not specifically excluded from the order.

⁸ If one of the above-named companies does not qualify for a separate rate, all other exporters of Certain Kitchen Appliance Shelving and Racks from the PRC who have not qualified for a separate rate are deemed to be covered by this review as part of the single PRC entity of which the named exporters are a part.

⁹ If one of the above-named companies does not qualify for a separate rate, all other exporters of Certain Magnesia Carbon Bricks the PRC who have not qualified for a separate rate are deemed to be covered by this review as part of the single PRC entity of which the named exporters are a part.

¹⁰ If one of the above-named companies does not qualify for a separate rate, all other exporters of Certain New Pneumatic Off-the-Road Tires the PRC who have not qualified for a separate rate are deemed to be covered by this review as part of the single PRC entity of which the named exporters are a part.

¹¹ If one of the above-named companies does not qualify for a separate rate, all other exporters of Freshwater Crawfish Tail Meat the PRC who have not qualified for a separate rate are deemed to be covered by this review as part of the single PRC entity of which the named exporters are a part.

¹² If one of the above-named companies does not qualify for a separate rate, all other exporters of Narrow Woven Ribbons with Woven Selvedge from the PRC who have not qualified for a separate rate are deemed to be covered by this review as part of the single PRC entity of which the named exporters are a part.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the POR.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Revised Factual Information Requirements

On April 10, 2013, the Department published Definition of Factual Information and Time Limits for Submission of Factual Information: Final Rule, 78 FR 21246 (April 10, 2013), which modified two regulations related to antidumping and countervailing duty proceedings: The definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://enforcement.trade.gov/frn/2013/1304frn/2013-08227.txt, prior to submitting factual information in this segment.

Any party submitting factual information in an antidumping duty or countervailing duty proceeding must certify to the accuracy and completeness of that information. See section 782(b) of the Act. Parties are hereby reminded that revised certification requirements are in effect for company/government officials as well as their representatives. Ongoing segments of any antidumping duty or countervailing duty proceedings initiated on or after March 14, 2011 should use the formats for the revised certifications provided at the end of the Interim Final Rule. See Certification of Factual Information to Import Administration During Antidumping and Countervailing Duty Proceedings: Interim Final Rule, 76 FR 7491 (February 10, 2011) (“Interim Final Rule”), amending 19 CFR 351.303(g)(1) and (2); Certification of Factual Information to Import Administration during Antidumping and Countervailing Duty Proceedings: Supplemental Interim Final Rule, 76 FR 54697 (September 2, 2011). All segments of any antidumping duty or countervailing duty proceedings initiated on or after August 16, 2013, should use the formats for the revised certifications provided at the end of the Final Rule. See Certification of Factual Information To Import Administration During Antidumping and Countervailing Duty Proceedings, 78 FR 42678 (July 17, 2013) (“Final Rule”); see also the frequently asked questions regarding the Final Rule, available at http://enforcement.trade.gov/tlei/notices/factual_info_final_rule_FAQ_07172013.pdf. The Department intends to reject factual submissions in any proceeding segments if the submitting party does not comply with applicable revised certification requirements.

Revised Extension of Time Limits Regulation

On September 20, 2013, the Department modified its regulation concerning the extension of time limits for submissions in antidumping (AD) and countervailing duty (CVD) proceedings: Final Rule, 78 FR 57790 (September 20, 2013). The modification clarifies that parties may request an extension of time limits before a time limit established under Part 351 expires, or as otherwise specified by the Secretary. In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning U.S. Customs and Border Protection data; and (5) quantity and value questionnaires. Under certain circumstances, the Department may elect to specify a different time limit by which extension requests will be considered untimely for submissions which are due from multiple parties simultaneously. In such a case, the Department will inform parties in the letter or memorandum setting forth the deadline (including a specified time) by which extension requests must be filed to be considered timely. This modification also requires that an extension request must be made in a separate, stand-alone submission, and clarifies the circumstances under which the Department will grant untimely-filed requests for the extension of time limits. These modifications are effective for all segments initiated on or after October 21, 2013. Please review the final rule, available at http://www.gpo.gov/fdsys/pkg/FR-2013-09-20/html/2013-22853.htm, prior to submitting factual information in this segment.

These initiations and this notice are in accordance with section 751(a) of the Act (19 U.S.C. 1675(a)) and 19 CFR 351.221(c)(1)(i).

Dated: November 4, 2013.
Christian Marsh,
Deputy Assistant Secretary for Antidumping and Countervailing Duty Operations.

[FR Doc. 2013-26847 Filed 11-7-13; 8:45 am]

BILLING CODE 3510-DS-P